DEPARTMENT OF TRANSPORTATION

National Highway Traffic Safety Administration

[Docket No. NHTSA-2016-0112]

School Transportation Safety—Thinking Outside the Bus Meeting

AGENCY: National Highway Traffic Safety Administration (NHTSA), U.S. Department of Transportation (DOT).

ACTION: Notice.

SUMMARY: The National Highway Traffic Safety Administration (NHTSA) is announcing a meeting that will be held in Washington, DC on December 1, 2016 to explore the risk factors associated with pupil transportation and potential solutions to prevent school transportation-related crashes. The School Transportation Safety—Thinking Outside the Bus meeting will include presentations and discussions on a number of topics including trends in school transportation-related crashes; updates on lap/shoulder belts in school buses; pedestrians around the bus, illegal passing of school buses, school bus driver distraction; research on camera enforcement of stop arm violations; school bus vehicle technology and Moving Toward Zero—Reducing School Transportation-related fatalities. Attendance at the meeting is limited to invited participants because of space limitations of the DOT Conference Center. However, the meeting will be available for live public viewing on the NHTSA Web site (www.nhtsa.gov).

DATES: The meeting will be held on December 1, 2016 from 8:30 a.m. to 3:00 p.m.

ADDRESSES: The meeting will be held in the Media Center of the U.S. Department of Transportation, 1200 New Jersey Avenue SE., Washington, DC 20590.

FOR FURTHER INFORMATION CONTACT: Mr. Brian Chodrow, Telephone: 202-366-9765; email address: brian.chodrow@dot.gov.

SUPPLEMENTARY INFORMATION: NHTSA will host a meeting to focus on ways to improve the safety of pupil transportation. The School Transportation Safety—Thinking Outside the Bus Meeting will begin with an introduction by NHTSA Administrator Mark Rosekind, followed by a discussion of the trends in pupil transportation crashes; updates on lap/shoulder seat belts in school buses, a risk panel concerning pedestrians around the school bus, and a discussion on school bus vehicle technology from school bus manufacturers. The meeting will conclude with a discussion on Moving Toward Zero—Reducing School Transportation-related fatalities.

Invited participants will include representatives from a number of fields including the behavioral and engineering sciences, traffic and highway safety, and public health, as well as from diverse organizations including advocacy groups, industry, state government, and other Federal Agencies.

NHTSA will facilitate sharing of important information regarding programs to improve the safety of pupil transportation. Saving lives by preventing traffic deaths is a top priority of this Administration.

Workshop Procedures. NHTSA will conduct the meeting informally. Thus, technical rules of evidence will not apply. The meeting will consist of presentations and panels. Each panel will have two or three short presentations, a roundtable discussion among the panel members, and participant questions to be discussed by the panel members and other meeting participants.

Authority: 49 U.S.C. 30182.

Issued in Washington, DC on November 7, 2016.
Jeff Michael,
Associate Administrator, Research and Program Development.

[FR Doc. 2016-27166 Filed 11-9-16; 8:45 am]

BILLING CODE 4910-59-P